ENVIRONMENTAL PROTECTION AGENCY

[EPA-HQ-SFUND-2006-0361; FRL-9583-01-OMS]

Information Collection Request Submitted to OMB for Review and Approval; Comment Request; Trade Secrets Claims for Community Right-to-Know and Emergency Planning (Renewal)

AGENCY: Environmental Protection Agency (EPA).

ACTION: Notice.

SUMMARY: The Environmental Protection Agency (EPA) has submitted an information collection request (ICR), “Trade Secrets Claims for Community Right-to-Know and Emergency Planning (EPA ICR Number 1428.12, OMB Control Number 2050-0078) to the Office of Management and Budget (OMB) for review and approval in accordance with the Paperwork Reduction Act. This is a proposed extension of the ICR, which is currently approved through April 30, 2022. Public comments were previously requested via the Federal Register on September 1, 2021 during a 60-day comment period. This notice allows for an additional 30 days for public comments. A fuller description of the ICR is given below, including its estimated burden and cost to the public. An agency may not conduct or sponsor and a person is not required to respond to a collection of information unless it displays a currently valid OMB control number.

DATES: Comments must be submitted on or before March 18, 2022.

ADDRESSES: Submit your comments to EPA, referencing Docket ID No. EPA-HQ-SFUND-2006-0361, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is 202-566-1744.

Abstract: This information collection request pertains to trade secrecy claims submitted under section 322 of the Emergency Planning and Community Right-to-Know Act of 1986 (EPCRA). EPCRA contains provisions requiring facilities to report to state and local authorities, and EPA, the presence of extremely hazardous substances (section 302), inventory of hazardous chemicals (sections 311 and 312) and manufacture, process and use of toxic chemicals (section 313). Section 322 of EPCRA allows a facility to withhold the specific chemical identity from these EPCRA reports if the facility asserts a trade secret claim for that chemical identity. The provisions in section 322 establish the requirements and procedures that facilities must follow to request trade secret treatment of chemical identities, as well as the procedures for submitting public petitions to the Agency for review of the “sufficiency” of trade secret claims.

Trade secret protection is provided for specific chemical identities contained in reports submitted under each of the following sections of EPCRA: (1) Section 303(d)(2)—Facility notification of changes that have or are about to occur; (2) section 303(d)(3)—Local Emergency Planning Committee (LEPC) requests for facility information to develop or implement emergency plans; (3) section 311—Material Safety Data Sheets (MSDSs) submitted by facilities, or lists of those chemicals submitted in place of the MSDSs; (4) section 312—Emergency and Hazardous Chemical Inventory forms (Tier I and Tier II); and (5) section 313—Toxic Chemical Release Inventory form.

Form Numbers: EPA Form 9510-1.

Respondents/affected entities: Entities potentially affected by this action are manufacturer and non-manufacturer facilities subject to reporting under sections 303, 311, 312 or 313 of the Emergency Planning and Community Right-to-Know Act (EPCRA).

Respondent's obligation to respond: Mandatory if a respondent decides to make a trade secret claim for the chemical identity for any of the chemicals in any of the reports the respondent is required to submit under EPCRA sections 303, 311, 312 or 313.

Estimated number of respondents: 283 trade secret claims.

Frequency of response: Annual, with reports submitted under sections 312 and 313.

Total estimated burden: 2,689 hours (per year). Burden is defined at 5 CFR 1320.03(b).

Total estimated cost: $164,989 (per year). There are no capital or operation and maintenance costs associated with this ICR.

Changes in estimates: The small increase in estimated burden from the previous ICR is because the actual number of claims submitted was slightly higher than what EPA estimated it would receive in the previous ICR. Therefore, the number of trade secret claims EPA expects to receive in the upcoming three-year renewal period is also higher.

Courtney Kerwin,
Director, Regulatory Support Division.

[FR Doc. 2022-03375 Filed 2-15-22; 8:45 am]

BILLING CODE 6560-50-P